DEPARTMENT OF ENERGY

Federal Energy Regulatory Commission

[Project No. 2337-077]

Notice of Availability of Final Environmental Assessment; PacifiCorp

In accordance with the National Environmental Policy Act of 1969 and the Federal Energy Regulatory Commission's (Commission) regulations, 18 CFR part 380, the Office of Energy Projects has reviewed the application for new license for the Prospect No. 3 Hydroelectric Project, located on the South Fork Rogue River in Jackson County, Oregon, and has prepared a Final Environmental Assessment (FEA) for the project. The project currently occupies 32.4 acres of federal land managed by the U.S. Forest Service as part of the Rogue River-Siskiyou National Forest.

The FEA contains the staff's analysis of the potential environmental impacts of the project and concludes that licensing the project, with appropriate environmental protective measures, would not constitute a major federal action that would significantly affect the quality of the human environment.

A copy of the FEA is available for review at the Commission in the Public Reference Room or may be viewed on the Commission's website at http://www.ferc.gov using the eLibrary link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, contact Dianne Rodman at (202) 502-6077.

Dated: April 16, 2018.
Kimberly D. Bose,
Secretary.

[FR Doc. 2018-08266 Filed 4-19-18; 8:45 am]

BILLING CODE 6717-01-P